FEDERAL DEPOSIT INSURANCE CORPORATION

Notice of Agency Meeting

Pursuant to the provisions of the “Government in the Sunshine Act” (5 U.S.C. 552b), notice is hereby given that the Federal Deposit Insurance Corporation's Board of Directors will meet in open session at 10 a.m. on Tuesday, December 5, 2006, to consider the following matters:

Summary Agenda

No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Proposed FDIC Corporate Investment Policy.

Memorandum and resolution re: Amendments to Part 313 to Authorize the FDIC to Refer Delinquent Criminal Restitution Debt to the Treasury Offset Program for Collection.

Discussion Agenda

Memorandum and resolution re: Notice of Proposed Rulemaking Regarding Risk-Based Capital Guidelines; Capital Maintenance: Domestic Capital Modifications.

Memorandum and resolution re: Extension of Comment Period for Basel II and Market Risk Notices of Proposed Rulemaking and the Proposed Reports Notices for those Rulemakings.

Memorandum and resolution re: Proposed 2007 Corporate Operating Budget.

Memorandum and resolution re: Advance Notice of Proposed Rulemaking on Large-Bank Deposit Insurance Determination Modernization.

The meeting will be held in the Board Room on the sixth floor of the FDIC Building located at 550 17th Street, NW., Washington, DC.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7122.

Dated: November 28, 2006.
Federal Deposit Insurance Corporation.
Robert E. Feldman,
Executive Secretary.

[FR Doc. 06-9496 Filed 11-29-06; 11:33 am]

BILLING CODE 6715-01-M